DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on September 26, 2023. See SUPPLEMENTARY INFORMATION for relevant dates.

FOR FURTHER INFORMATION CONTACT: OFAC: Associate Director for Global Targeting, 202-622-2420; or Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action(s)

On September 26, 2023, OFAC determined that the persons identified below meet one or more of the criteria for the imposition of sanctions set forth in section 1(a)-(c) of Executive Order 14059 of December 15, 2021, “Imposing Sanctions on Foreign Persons Involved in the Global Illicit Drug Trade,” 86 FR 71549 (December 17, 2021) (E.O. 14059). OFAC has selected to impose blocking sanctions pursuant to section 2(a)(i) of E.O. 14059 on the persons identified below. As a result, the property and interests in property subject to U.S. jurisdiction of the following persons are blocked under the relevant sanctions authorities listed below.

Individuals

1. GARCIA CORRALES, Leobardo (a.k.a. “Leo”), Mexico; DOB 10 Mar 1970; POB Sinaloa, Mexico; nationality Mexico; Gender Male; C.U.R.P. GACL700310HSLRRB04 (Mexico) (individual) [ILLICIT-DRUGS-EO14059]. Designated pursuant to section 1(a)(i) of E.O. 14059 for having engaged in, or attempted to engage in, activities or transactions that have materially contributed to, or pose a significant risk of materially contributing to, the international proliferation of illicit drugs or their means of production.

2. GARCIA CORRALES, Martin (a.k.a. Cachuchas; a.k.a. Tano), Mexico; DOB 13 Apr 1980; POB Sinaloa, Mexico; nationality Mexico; Gender Male; C.U.R.P. GACM800413HSLRRR06 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

3. FIGUEROA BENITEZ, Jorge Humberto (a.k.a. “27”), Mexico; DOB 02 Sep 1989; POB Sinaloa, Mexico; nationality Mexico; Gender Male; C.U.R.P. FIBJ890902HSLGNR06 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

4. LEON ALVARADO, Samuel, Mexico; DOB 02 Jul 1988; POB Sinaloa, Mexico; nationality Mexico; Gender Male; C.U.R.P. LEAS880702HSLNLM08 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

5. LIMON VAZQUEZ, Carlos Mario, Mexico; DOB 25 May 2003; POB Sinaloa, Mexico; nationality Mexico; Gender Male; C.U.R.P. LIVC030525HSLMZRA2 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

6. NUNEZ AGUIRRE, Liborio (a.k.a. “Karateca”), Mexico; DOB 22 Aug 1957; POB Sinaloa, Mexico; nationality Mexico; Gender Male; C.U.R.P. NUAL570822HSLXGB05 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

7. DOMINGUEZ HERNANDEZ, Julio Cesar, Mexico; DOB 29 Dec 1990; POB Sinaloa, Mexico; nationality Mexico; citizen Mexico; Gender Male; C.U.R.P. DOHJ901229HSLMRL03 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

8. JIMENEZ CASTRO, Mario Alberto (a.k.a. “KASTOR”), Mexico; DOB 20 Oct 1988; POB Sinaloa, Mexico; nationality Mexico; citizen Mexico; Gender Male; Digital Currency Address—ETH 0x9c2bc757b66f24d60f016b6237f8cdd414a879fa; C.U.R.P. JICM881020HSLMSR07 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

9. VIBANCO GARCIA, Jesus Miguel (a.k.a. VIVANCO GARCIA, Jesus Miguel; a.k.a. VIVANCO JR., Miguel Angel; a.k.a. “JASPER”), Mexico; DOB 06 Oct 1995; POB Sinaloa, Mexico; nationality Mexico; citizen Mexico; Gender Male; C.U.R.P. VIGJ951006HSLBRS01 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

10. AVILA VILLADIEGO, Jobanis de Jesus (a.k.a. “CHIQUITO MALO”), Turbo, Antioquia, Colombia; DOB 10 Apr 1977; POB San Pedro de Uraba, Antioquia, Colombia; nationality Colombia; citizen Colombia; Gender Male; Cedula No. 71987498 (Colombia) (individual) [ILLICIT-DRUGS-EO14059].

Designated pursuant to section 1(a)(i) of E.O. 14059 for having engaged in, or attempted to engage in, activities or transactions that have materially contributed to, or pose a significant risk of materially contributing to, the international proliferation of illicit drugs or their means of production.

Dated: August 12, 2025.
Bradley T. Smith,
Director, Office of Foreign Assets Control.

[FR Doc. 2025-15454 Filed 8-13-25; 8:45 am]

BILLING CODE 4810-AL-P